DEPARTMENT OF LABOR

Employment and Training Administration

[TA-W-53,657]

RMG Foundry, LLC, Mishawaka, IN; Notice of Termination of Investigation

Pursuant to section 221 of the Trade Act of 1974, an investigation was initiated on November 28, 2003 in response to a petition filed by a company official on behalf of workers at RMG Foundry, LLC, Mishawaka, Indiana.

The petitioner has requested that the petition be withdrawn. Consequently, further investigation in this case would serve no purpose, and the investigation has been terminated.

Signed in Washington, DC, this 17th day of December 2003.
Linda G. Poole,
Certifying Officer, Division of Trade Adjustment Assistance.

[FR Doc. 04-644 Filed 1-12-04; 8:45 am]

BILLING CODE 4510-30-P